ENVIRONMENTAL PROTECTION AGENCY

40 CFR Part 52

[EPA-R09-OAR-2013-0683; FRL-9909-66-Region 9]

Revisions to the California State Implementation Plan, El Dorado County Air Quality Management District

AGENCY: Environmental Protection Agency (EPA).

ACTION: Final rule.

SUMMARY: The Environmental Protection Agency (EPA) is finalizing approval of revisions to the El Dorado County Air Quality Management District (EDAQMD) portion of the California State Implementation Plan (SIP). This action was proposed in the Federal Register on October 25, 2013 and concerns negative declarations for volatile organic compound (VOC) source categories for EDAQMD. We are approving these negative declarations under the Clean Air Act (CAA or the Act).

DATES: This rule will be effective on May 19, 2014.

ADDRESSES: EPA has established docket number EPA-R09-OAR-2013-0683 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. Proposed Action

II. Public Comments and EPA Responses

III. EPA Action

IV. Statutory and Executive Order Reviews

I. Proposed Action

On October 25, 2013 (78 FR 63934), EPA proposed to approve the following document into the California SIP.

Local agency | Document | Adopted | Submitted
EDAQMD | EDAQMD Reasonably Available Control Technology (RACT) State Implementation Plan (SIP) Update Analysis Staff Report (“2006 RACT SIP”) | 02/06/07 | 07/11/07

On March 13, 2014 (79 FR 14176), we finalized approval of EDAQMD's 2006 RACT SIP. Included in EDAQMD's submittal were a number of negative declarations. Ozone nonattainment areas classified at moderate and above are required to adopt VOC regulations for the published Control Technique Guidelines (CTG) categories and for major non-CTG sources of VOC or NOx. If an ozone nonattainment area does not have stationary sources covered by an EPA published CTG, then the area is required to submit a negative declaration. We proposed approval of EDAQMD's negative declarations listed in Table 1 below because we determined that they complied with the relevant CAA requirements. This action finalizes our approval of EDAQMD's negative declarations into the SIP. Our proposed action contains more information on the submitted document and our evaluation.

Table 1—EDAQMD Negative Declarations
CTG Source category | CTG Document title
Aerospace | EPA-453/R-97-004—Control of VOC Emissions from Coating Operations at Aerospace Manufacturing and Rework.
Automobile Coating; Metal Coil Container, & Closure; Paper & Fabric | EPA-450/2-77-008—Control of Volatile Organic Emissions from Existing Stationary Sources—Volume II Surface Coating of Cans, Coils, Paper, Fabrics, Automobiles, and Light-Duty Trucks.
Large Appliances | EPA-450/2-77-034—Control of Volatile Organic Emissions from Existing Stationary Sources, Volume V: Surface Coating of Large Appliances.
Magnet Wire | EPA-450/2-77-033—Control of Volatile Organic Emissions from Existing Stationary Sources, Volume IV: Surface Coating of Insulation of Magnet Wire.
Metal Furniture | EPA-450/2-77-032—Control of Volatile Organic Emissions from Existing Stationary Sources, Volume III: Surface Coating of Metal Furniture.
Ships | 61 FR 44050 Shipbuilding and Ship Repair Operations (Surface Coating).
Wood Coating: Factory Surface Coating of Flat Wood Paneling | EPA-450/2-78-032—Control of Volatile Organic emissions from Existing Stationary Sources, Volume VII: Factory Surface Coating of Flat Wood Paneling.
Wood Furniture | EPA-453/R-96-007—Control of VOC Emissions from Wood Furniture Manufacturing Operations.
Natural Gas/Gasoline | EPA-450/2-83-007—Control of VOC Equipment Leaks from Natural Gas/Gasoline Processing Plants.
Refineries | EPA-450/2-77-025—Control of Refinery Vacuum Producing Systems, Wastewater Separators, and Process Unit Turnarounds.
| EPA-450/2-78-036—Control of VOC Leaks from Petroleum Refinery Equipment.
Synthetic Organic Chemical | EPA-450/3-84-015—Control of VOC Emissions from Air Oxidation Processes in Synthetic Organic Chemical Manufacturing Industry.
| EPA-450/4-91-031—Control of VOC Emissions from Reactor Processes and Distillation Operations in SOCMI.
Tanks | EPA-450/2-77-036—Control of VOC Emissions from Storage of Petroleum Liquids in Fixed Roof Tanks.
| EPA-450/2-78-047—Control of VOC Emissions from Petroleum Liquid Storage in External Floating Roof Tanks.
Dry Cleaning | EPA-450/3-82-009—Control of VOC Emissions from Large Petroleum Dry Cleaners.
Pharmaceutical Products | EPA-450/2-78-029—Control of Volatile Organic Emissions from Manufacture of Synthesized Pharmaceutical Products.
Polyester Resin | EPA-450/3-83-008—Control of VOC Emissions from Manufacture of High-Density Polyethylene, Polypropylene, and Polystyrene Resins.
| EPA-450/3-83-006—Control of VOC Fugitive Emissions from Synthetic Organic Chemical Polymer and Resin Manufacturing Equipment.
Rubber Tires | EPA-450/2-78-030—Control of Volatile Organic Emissions from Manufacture of Pneumatic Rubber Tires.

II. Public Comments and EPA Responses

EPA's proposed action provided a 30-day public comment period. During this period, we received no comments on the proposed approval of El Dorado County's negative declarations.

III. EPA Action

No comments were submitted. Therefore, as authorized in section 110(k)(3) of the Act, EPA is fully approving these negative declarations into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 17, 2014. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Ozone, Reporting and recordkeeping requirements, Volatile organic compounds.

Dated: March 21, 2014.
Jared Blumenfeld,
Regional Administrator, Region IX.

Part 52, Chapter I, Title 40 of the Code of Federal Regulations is amended as follows:

PART 52 [AMENDED]

1. The authority citation for part 52 continues to read as follows:

Authority: 42 U.S.C. 7401 et seq.

Subpart F—California

2. Section 52.222 is amended by adding paragraph (a)(7)(iii) to read as follows:

§ 52.222 Negative declarations.

* * * * *

(a) * * *

(7) * * *

(iii) Control of VOC Emissions from Coating Operations at Aerospace Manufacturing and Rework; Control of Volatile Organic Emissions from Existing Stationary Sources—Volume II: Surface Coating of Cans, Coils, Paper, Fabrics, Automobiles, and Light-Duty Trucks; Control of Volatile Organic Emissions from Existing Stationary Sources, Volume V: Surface Coating of Large Appliances; Control of Volatile Organic Emissions from Existing Stationary Sources, Volume IV: Surface Coating of Insulation of Magnet Wire; Control of Volatile Organic Emissions from Existing Stationary Sources, Volume III: Surface Coating of Metal Furniture; 61 FR 44050 Shipbuilding and Ship Repair Operations (Surface Coating); Control of Volatile Organic emissions from Existing Stationary Sources, Volume VII: Factory Surface Coating of Flat Wood Paneling; Control of VOC Emissions from Wood Furniture Manufacturing Operations; Control of VOC Equipment Leaks from Natural Gas/Gasoline Processing Plants; Control of Refinery Vacuum Producing Systems, Wastewater Separators, and Process Unit Turnarounds; Control of VOC Leaks from Petroleum Refinery Equipment; Control of VOC Emissions from Air Oxidation Processes in Synthetic Organic Chemical Manufacturing Industry; Control of VOC Emissions from Reactor Processes and Distillation Operations in SOCMI; Control of VOC Emissions from Storage of Petroleum Liquids in Fixed Roof Tanks; Control of VOC Emissions from Petroleum Liquid Storage in External Floating Roof Tanks; Control of VOC Emissions from Large Petroleum Dry Cleaners; Control of Volatile Organic Emissions from Manufacture of Synthesized Pharmaceutical Products; Control of VOC Emissions from Manufacture of High-Density Polyethylene, Polypropylene, and Polystyrene Resins; Control of VOC Fugitive Emissions from Synthetic Organic Chemical Polymer and Resin Manufacturing Equipment; and Control of Volatile Organic Emissions from Manufacture of Pneumatic Rubber Tires were submitted on July 11, 2007 and adopted on February 6, 2007.

* * * * *

[FR Doc. 2014-08742 Filed 4-17-14; 8:45 am]

BILLING CODE 6560-50-P